DEPARTMENT OF THE INTERIOR

National Park Service

[NPS-WASO-NAGPRA-NPS0029322; PPWOCRADN0-PCU00RP14.R50000]

Notice of Intent To Repatriate Cultural Items: State University of New York at Oswego, Oswego, NY

AGENCY: National Park Service, Interior.

ACTION: Notice.

SUMMARY: The State University of New York at Oswego, in consultation with the appropriate Indian Tribes or Native Hawaiian organizations, has determined that the cultural items listed in this notice meet the definition of unassociated funerary objects. Lineal descendants or representatives of any Indian Tribe or Native Hawaiian organization not identified in this notice that wish to claim these cultural items should submit a written request to the State University of New York at Oswego. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the State University of New York at Oswego at the address in this notice by February 3, 2020.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3005, of the intent to repatriate cultural items under the control of the State University of New York at Oswego, Oswego, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In an unknown time, 469 cultural items were removed from unknown sites in Oswego, Onondaga, Cayuga, Madison, Wayne, and St. Lawrence Counties, NY. These items were recovered as part of years of field schools and projects run by Peter Pratt in central NY while he was teaching at SUNY Oswego, and were transferred at an unknown time to SUNY Oswego. The 469 unassociated funerary objects are one effigy vessel; two soil samples; 30 plain and decorated incised pottery body sherds; four charcoal samples; one clay/daub; five unidentified faunal bones; one ground stone; one charcoal sample; 225 plain and decorated incised pottery body and rim sherds; two unidentified lithics; two unidentified faunal bones; one ground stone hand axe; 57 plain and decorated incised pottery rim and body sherds; 27 unidentified faunal bones; seven chert flakes and shatter; 53 plain and decorated incised pottery rim and body sherds; 28 plain and decorated incised pottery rim and body sherds; 11 miscellaneous lithics including groundstone, shatter, and preforms; one pottery pipe and refitted pieces; five pottery pipes; one effigy head pottery pipe; one effigy pottery pipe; and three pottery pipe parts.

Based on the history of Peter Pratt's research program and the provenience of the materials recovered from his multiple decades of excavation in central NY, these items were more likely than not recovered via local donations made during one of his excavations within Oneida, Onondaga, and Cayuga sites, as this was a common feature of his field school materials.

Determinations Made by the State University of New York at Oswego

Officials of the State University of New York at Oswego have determined that:

• Pursuant to 25 U.S.C. 3001(3)(B), the 469 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cayuga Nation; Oneida Indian Nation (previously listed as the Oneida Nation of New York); and the Onondaga Nation.

Additional Requestors and Disposition

Lineal descendants or representatives of any Indian Tribe or Native Hawaiian organization not identified in this notice that wish to claim these cultural items should submit a written request with information in support of the claim to Alanna Ossa, NAGPRA Coordinator, State University of New York at Oswego, 313 Mahar Hall, Department of Anthropology, Oswego, NY 13126, telephone (315) 312-4172, email alanna.ossa@oswego.edu, by February 3, 2020. After that date, if no additional claimants have come forward, transfer of control of the unassociated funerary objects to the Cayuga Nation; Oneida Indian Nation (previously listed as the Oneida Nation of New York); and the Onondaga Nation may proceed.

The State University of New York at Oswego is responsible for notifying the Cayuga Nation; Oneida Indian Nation (previously listed as the Oneida Nation of New York); and the Onondaga Nation that this notice has been published.

Dated: November 14, 2019.
Melanie O'Brien,
Manager, National NAGPRA Program.

[FR Doc. 2019-28383 Filed 1-2-20; 8:45 am]

BILLING CODE 4312-52-P